DEPARTMENT OF COMMERCE

International Trade Administration

[A-570-028]

Hydrofluorocarbon Blends From the People's Republic of China: Preliminary Results of Antidumping Duty Administrative Review; 2021-2022

AGENCY: Enforcement and Compliance, International Trade Administration, Department of Commerce.

SUMMARY: The U.S. Department of Commerce (Commerce) preliminarily determines that the sole mandatory respondent under review did not make sales of Hydrofluorocarbon Blends (HFC blends) from the People's Republic of China (China) at less than normal value (NV) during the period of review (POR), August 31, 2021, through July 31, 2022. Interested parties are invited to comment on these preliminary results.

DATES: Applicable September 6, 2023.

FOR FURTHER INFORMATION CONTACT: Alex Wood, AD/CVD Operations, Office II, Enforcement and Compliance, International Trade Administration, U.S. Department of Commerce, 1401 Constitution Avenue NW, Washington, DC 20230; telephone: (202) 482-1959.

SUPPLEMENTARY INFORMATION:

Background

On August 19, 2016, Commerce published the antidumping duty (AD) order on HFC blends from China.¹ On August 2, 2022, Commerce published a notice of opportunity to request an administrative review of the Order, covering the POR, pursuant to section 751(a)(1) of the Tariff Act of 1930, as amended (the Act).² On October 11, 2022, based on timely requests for review from American HFC Coalition and Zhejiang Sanmei Chemical Industry Co., Ltd. (Sanmei),³ Commerce initiated an administrative review of the Order covering the POR.⁴ The administrative review covers 17 companies,⁵ including the mandatory respondent, Sanmei. On April 10, 2023, Commerce extended the deadline for the preliminary results of this review to no later than August 31, 2023.⁶

¹ See Hydrofluorocarbon Blends from the People's Republic of China: Antidumping Duty Order, 81 FR 55436 (August 19, 2016) (Order).

² See Antidumping or Countervailing Duty Order, Finding, or Suspended Investigation; Opportunity to Request Administrative Review and Join Annual Inquiry Service List, 87 FR 47187 (August 2, 2022).

³ See HFC Coalition's Letter, “Request for Administrative Review,” dated August 31, 2022; see also Sanmei's Letter, “Request for Administrative Review,” dated August 31, 2022.

⁴ See Initiation of Antidumping and Countervailing Duty Administrative Reviews, 87 FR 61278 (October 11, 2022) (Initiation Notice).

⁵ The Initiation Notice listed 18 companies. However, Zhejiang Sanmei Chemical Ind. Co., Ltd. is the same company as Zhejiang Sanmei Chemical Industry Co., Ltd.

⁶ See Memorandum, “Extension of Deadline for Preliminary Results of 2021-2022 Antidumping Duty Administrative Review,” dated April 10, 2023.

Scope of the Order

The products covered by the Order are shipments of HFC blends from China. For a full description of the scope of the Order, see the Preliminary Decision Memorandum.⁷

⁷ See Memorandum, “Decision Memorandum for the Preliminary Results of the 2021-2022 Antidumping Duty Administrative Review of Hydrofluorocarbon Blends from the People's Republic of China,” dated concurrently with, and hereby adopted by, this notice (Preliminary Decision Memorandum).

Separate Rate

Commerce preliminarily determines that one respondent, Sanmei, the only company individually examined in this review, is eligible to receive a separate rate in this review.⁸

⁸ Id. at “Separate Rates” section.

China-Wide Entity

Under Commerce's policy regarding the conditional review of the China-wide entity,⁹ the China-wide entity will not be under review unless a party specifically requests, or Commerce self-initiates, a review of the entity. Because no party requested a review of the China-wide entity in this review, the entity is not under review, and the entity's rate (i.e., 216.37 percent) is not subject to change.¹⁰ Commerce considers the 16 companies for which a review was requested (which did not file a separate rate application or did not demonstrate separate rate eligibility) listed in Appendix II to this notice, to be part of the China-wide entity.¹¹

⁹ See Antidumping Proceedings: Announcement of Change in Department Practice for Respondent Selection in Antidumping Duty Proceedings and Conditional Review of the Nonmarket Economy Entity in NME Antidumping Duty Proceedings, 78 FR 65963 (November 4, 2013).

¹⁰ See Order.

¹¹ See Initiation Notice (“All firms listed below that wish to qualify for separate rate status in the administrative reviews involving NME countries must complete, as appropriate, either a separate rate application or certification, as described below.”), 87 FR at 61285; see also Appendix II, infra, for the list of companies that are subject to this administrative review that are considered to be part of the China-wide entity.

Methodology

Commerce is conducting this review in accordance with section 751(a)(1)(B) of the Act. We calculated export price in accordance with section 772 of the Act. Because China is an NME country within the meaning of section 771(18) of the Act, we calculated normal value in accordance with section 773(c) of the Act.

For a full description of the methodology underlying our preliminary results, see the Preliminary Decision Memorandum.¹² A list of topics discussed in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

¹² See Preliminary Decision Memorandum at “Discussion of the Methodology.”

Preliminary Results of Review

Commerce preliminarily determines that the following weighted-average dumping margin exists for the period August 31, 2021, through July 31, 2022:

Exporter | Weighted- average dumping margin (percent)
Sanmei Chemical Industry Co., Ltd | 0.00

Disclosure

Commerce intends to disclose the calculations performed in connection with these preliminary results to interested parties within five days after the date of publication of this notice.¹³

¹³ See 19 CFR 351.224(b).

Public Comment

Case briefs or other written comments may be submitted to Commerce no later than 30 days after the date of publication of this notice.¹⁴ Rebuttal briefs, limited to issues raised in the case briefs, may be filed no later than seven days after the time limit for filing case briefs.¹⁵ Parties who submit case briefs or rebuttal briefs in this proceeding are encouraged to submit with each argument: (1) a statement of the issue; (2) a brief summary of the argument; and (3) a table of authorities.¹⁶ Case and rebuttal briefs should be filed using ACCESS.¹⁷ Note that Commerce has temporarily modified certain of its requirements for serving documents containing business proprietary information, until further notice.¹⁸

¹⁴ See 19 CFR 351.309(c).

¹⁵ See 19 CFR 351.309(c); see also Temporary Rule Modifying AD/CVD Service Requirements Due to COVID-19; Extension of Effective Period, 85 FR 41363 (July 10, 2020) (Temporary Rule).

¹⁶ See 19 CFR 351.309(c)(2) and (d)(2).

¹⁷ See 19 CFR 351.303.

¹⁸ See Temporary Rule.

Pursuant to 19 CFR 351.310(c), interested parties who wish to request a hearing, limited to issues raised in the case and rebuttal briefs, must submit a written request to the Assistant Secretary for Enforcement and Compliance, U.S. Department of Commerce, filed electronically via ACCESS within 30 days after the date of publication of this notice.¹⁹ Hearing requests should contain: (1) the party's name, address, and telephone number; (2) the number of participants; and (3) a list of issues to be discussed. Issues raised in the hearing will be limited to issues raised in the briefs. If a request for a hearing is made, Commerce intends to hold the hearing at a date and time to be determined.²⁰ Parties should confirm by telephone the date and time of the hearing two days before the scheduled date. An electronically filed document must be received successfully in its entirety by ACCESS by 5:00 p.m. Eastern Time on the established deadline.

¹⁹ See 19 CFR 351.310(c).

²⁰ See 19 CFR 351.310(d).

Unless the deadline is extended, Commerce intends to issue the final results of this administrative review, including the results of its analysis of issues raised in any written briefs, not later than 120 days after the date of publication of this notice.²¹

²¹ See section 751(a)(3)(A) of the Act and 19 CFR 351.213(h).

Assessment Rates

Upon completion of the final results, Commerce shall determine, and U.S. Customs and Border Protection (CBP) shall assess, antidumping duties on all appropriate entries covered by this review.²² If the preliminary results are unchanged for the final results, we will instruct CBP to apply an ad valorem assessment rate of 216.37 percent to all entries of subject merchandise during the POR which were exported by the companies considered to be a part of the China-wide entity listed in Appendix II of this notice.

²² See 19 CFR 351.212(b)(1).

If the individually examined respondent's weighted-average dumping margin is above de minimis (i.e., 0.50 percent) in the final results of this review, we will calculate an importer-specific assessment rate on the basis of the ratio of the total amount of dumping calculated for each importer's examined sales and, where possible, the total entered value of those same sales in accordance with 19 CFR 351.212(b)(1).²³ Where an importer- (or customer-) specific ad valorem rate is zero or de minimis, we will instruct CBP to liquidate appropriate entries without regard to antidumping duties.²⁴

²³ See Antidumping Proceedings: Calculation of the Weighted-Average Dumping Margin and Assessment Rate in Certain Antidumping Proceedings: Final Modification, 77 FR 8101, 8103 (February 14, 2012).

²⁴ See 19 CFR 351.106(c)(2).

For entries that were not reported in the U.S. sales database submitted by exporter individually examined during this review, Commerce will instruct CBP to liquidate such entries at the China-wide rate.²⁵

²⁵ For a full discussion of this practice, see Non-Market Economy Antidumping Proceedings: Assessment of Antidumping Duties, 76 FR 65694 (October 24, 2011).

Commerce intends to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date, as provided for by section 751(a)(2)(C) of the Act: (1) for the subject merchandise exported by the company listed above that has a separate rate, the cash deposit rate will be equal to the weighted-average dumping margin established in the final results of this administrative review (except, if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results of review in accordance with sections 751(a)(l) and 777(i)(l) of the Act, and 19 CFR 351.221(b)(4).

Dated: August 29, 2023.
Lisa W. Wang,
Assistant Secretary for Enforcement and Compliance.

Appendix I—List of Topics Discussed in the Preliminary Decision Memorandum

I. Summary

II. Background

III. Scope of the Order

IV. Discussion of the Methodology

V. Currency Conversion

VI. Recommendation

Appendix II—Companies Considered To Be Part of the China-Wide Entity

1. Changzhou Vista Chemical Co., Ltd.

2. Daikin Fluorochemicals (China) Co., Ltd.

3. Dongyang Weihua Refrigerants Co., Ltd.

4. Hangzhou Icetop Refrigeration Co., Ltd.

5. Jiangsu Sanmei Chemicals Co., Ltd.

6. Oasis Chemical Co., Limited

7. Sinochem Environmental Protection Chemicals (Taicang) Co., Ltd.

8. Superfy Industrial Limited

9. Tianjin Synergy Gases Products, Co., Ltd.

10. Weitron International Refrigeration Equipment (Kunshan) Co., Ltd.

11. Weitron International Refrigeration Equipment Co., Ltd.

12. Yangfar Industry Co., Ltd

13. Zhejiang Lantian Environmental Protection Fluoro Material Co. Ltd

14. Zhejiang Quzhou Lianzhou Refrigerants Co., Ltd

15. Zhejiang Yonghe Refrigerant Co., Ltd

16. Zhejiang Zhonglan Refrigeration Technology Co., Ltd

[FR Doc. 2023-19120 Filed 9-5-23; 8:45 am]

BILLING CODE 3510-DS-P